DEPARTMENT OF DEFENSE

Department of the Navy

[Docket ID USN-2023-HQ-0006]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 11, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Department of the Navy Information Management Control Officer, 2000 Navy Pentagon, Rm. 4E563, Washington, DC 20350, ATTN: Ms. Sonya Martin, or call 703-614-7585.

SUPPLEMENTARY INFORMATION: Title; Associated Form; and OMB Number: Leaders to SEA Embark Request; OPNAV Form 5720/11; OMB Control Number 0703-0060.

Needs and Uses: Information collection from members of the public via OPNAV Form 5720/11, “Leaders to SEA Embark Request,” is necessary to facilitate embarkation on U.S. Navy surface ships or submarines and determine embarkation qualification. Respondents are interested persons, such as community leaders, legislators, business executives, educators, foreign military and dignitaries, as well as other Non-Federal Government employees wishing to embark on a Navy vessel. To request embarkation on a Navy vessel, the respondent uses OPNAV 5720/11 Leaders to Sea Embark Request Form located on https://www.chinfo.navy.mil/embarks. This information may also be used for notification of next of kin in the event of death or serious injury or to permit transmission of public affairs information from the Navy to the individual concerned. Completion of the information is completely voluntary; however, failure to provide required information may result in denial of embarkation request. In the rare case that the electronic system is not accessible, the information collection will revert to submitting the paper form version of OPNAV Form 5720/11 to a Navy public affairs officer using secure methods. The information collected is reviewed by a Navy Public Affairs Officer to determine if the person qualifies for embarkation.

Affected Public: Individuals or households.

Annual Burden Hours: 750.

Number of Respondents: 3,000.

Responses per Respondent: 1.

Annual Responses: 3,000.

Average Burden per Response: 15 minutes.

Frequency: As Required.

Dated: February 7, 2023.
Aaron T. Siegel,
Alternate OSD Federal Register Liaison Officer, Department of Defense.

[FR Doc. 2023-02896 Filed 2-9-23; 8:45 am]

BILLING CODE 5001-06-P